DEPARTMENT OF COMMERCE

International Trade Administration

[A-834-812]

Ferrosilicon From Kazakhstan: Final Affirmative Determination of Sales at Less-Than-Fair-Value and Final Negative Determination of Critical Circumstances

AGENCY: Enforcement and Compliance, International Trade Administration, Department of Commerce.

SUMMARY: The U.S. Department of Commerce (Commerce) determines that imports of ferrosilicon from Kazakhstan are being, or are likely to be, sold in the United States at less than fair value (LTFV) for the period of investigation (POI) January 1, 2023, through December 31, 2023.

DATES: Applicable March 28, 2025.

FOR FURTHER INFORMATION CONTACT: Mira Warrier, AD/CVD Operations, Office II, Enforcement and Compliance, International Trade Administration, U.S. Department of Commerce, 1401 Constitution Avenue NW, Washington, DC 20230; telephone: (202) 482-8031

SUPPLEMENTARY INFORMATION:

Background

On November 6, 2024, Commerce published the Preliminary Determination in the Federal Register.¹ We invited interested parties to comment on the Preliminary Determination. For a complete description of the events that followed the Preliminary Determination, see the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See Ferrosilicon from Kazakhstan: Preliminary Affirmative Determination of Sales at Less Than Fair Value, Preliminary Negative Determination of Critical Circumstances, Postponement of Final Determination, and Extension of Provisional Measures, 89 FR 88007 (November 6, 2024) (Preliminary Determination), and accompanying Preliminary Decision Memorandum (PDM).

² See Memorandum, “Issues and Decision Memorandum for the Final Affirmative Determination in the Less-Than-Fair-Value Investigation of Ferrosilicon from Kazakhstan,” dated concurrently with, and hereby adopted by, this notice (Issues and Decision Memorandum).

Scope of the Investigation

The product covered by this investigation is ferrosilicon. For a complete description of the scope of this investigation, see Appendix I.

Scope Comments

No interested party commented on the scope of the investigation as it appeared in the Preliminary Determination. Therefore, no changes were made to the scope of the investigation.

Final Negative Determination of Critical Circumstances

We continue to find that critical circumstances do not exist for YDD Corporation LLP; Asia FerroAlloys LLP; and KazSilicon Metallurgical Combine LLP (collectively, the YDD Single Entity), TNC Kazchrome JSC (Kazchrome), and all other companies not individually examined pursuant to section 733(e)(1)(A) of the Tariff Act of 1930, as amended (the Act) and 19 CFR 351.206. For a discussion of Commerce's critical circumstance analysis, see the Issues and Decision Memorandum.

Verification

Commerce conducted verification of the information relied upon in making its final determination in this investigation, in accordance with section 782(i) of the Act. Specifically, Commerce conducted on-site verifications of YDD Corporation LLP; Asia FerroAlloys LLP; and KazSilicon Metallurgical Combine LLP (collectively, the YDD Single Entity) ³ and Kazchrome's ⁴ home market sales, U.S. sales, and cost of production. We used standard verification procedures, including an examination of relevant sales and accounting records, and original source documents provided by the YDD Single Entity and Kazchrome.

³ See Memoranda, “Verification of the Sales Response of YDD Corporation LLP; Asia FerroAlloys LLP; and KazSilicon Metallurgical Combine LLP (collectively, the YDD Single Entity) in the Less-Than-Fair-Value Investigation of Ferrosilicon from Kazakhstan,” dated December 27, 2024; and “Verification of the Cost Response of YDD Corporation LLP; Asia FerroAlloys LLP; and KazSilicon Metallurgical Combine LLP in the Less Than Fair Value Investigation of Ferrosilicon from Kazakhstan,” dated February 10, 2025.

⁴ See Memoranda, “Verification of the Sales Response of TNC Kazchrome JSC in the Less-Than-Fair-Value Investigation of Ferrosilicon from Kazakhstan,” dated December 27, 2024; “Verification of the Cost Response of TNC Kazchrome JSC in the Less Than Fair Value Investigation of Ferrosilicon from Kazakhstan,” dated February 10, 2025.

Analysis of Comments Received

All issues raised in the case and rebuttal briefs submitted by interested parties in this investigation are addressed in the Issues and Decision Memorandum. A list of the issues addressed in the Issues and Decision Memorandum is attached to this notice as Appendix II.

Changes Since the Preliminary Determination

Based on a review of the record and comments received from interested parties regarding our Preliminary Determination, we made certain changes to both the YDD Single Entity's and Kazchrome's preliminary weighted-average dumping margin calculations. For a discussion of these changes, see the Issues and Decision Memorandum.

All-Others Rate

Section 735(c)(5)(A) of the Act provides that the estimated weighted-average dumping margin for all other producers and exporters not individually investigated shall be equal to the weighted average of the estimated weighted-average dumping margins established for exporters and producers individually investigated, excluding rates that are zero, de minimis, or determined entirely under section 776 of the Act.

In this investigation, Commerce calculated estimated weighted-average dumping margins for Kazchrome and the YDD Single Entity that are not zero, de minimis, or based entirely on facts otherwise available. Commerce calculated the all-others rate using a weighted average of the estimated weighted-average dumping margins calculated for the examined respondents using each company's publicly-ranged values for the merchandise under consideration.⁵

⁵ See Memorandum, “All-Others Rate Calculation,” dated concurrently with this notice. With two respondents under examination, Commerce normally calculates: (A) a weighted-average of the estimated weighted-average dumping margins calculated for the examined respondents; (B) a simple average of the estimated weighted-average dumping margins calculated for the examined respondents; and (C) a weighted-average of the estimated weighted average dumping margins calculated for the examined respondents using each company's publicly-ranged U.S. sales values for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53662 (September 1, 2010), and accompanying Issues and Decision Memorandum at Comment 1. As complete publicly ranged sales data were available, Commerce based the all others rate on the publicly ranged sales data of the mandatory respondents. For a complete analysis of the data, see the All Others Rate Calculation Memorandum.

Final Determination

Commerce determines that the following estimated weighted-average dumping margins exist:

⁶ Commerce has found that YDD Corporation LLP, Asia FerroAlloys LLP, and KazSilicon Metallurgical Combine LLP comprise a single entity. See Preliminary Determination PDM.

Exporter/producer | Weighted- average dumping margin (percent)
YDD Corporation LLP; Asia FerroAlloys LLP; KazSilicon Metallurgical Combine LLP ⁶ | 6.01
TNC Kazchrome JSC | 6.20
All Others | 6.05

Disclosure

Commerce intends to disclose the calculations and analysis performed in connection with this final determination to interested parties within five days of any public announcement or, if there is no public announcement, within five days of the publication date of this notice in the Federal Register, in accordance with 19 CFR 351.224(b).

Continuation of Suspension of Liquidation

In accordance with section 735(c)(1)(B) of the Act, Commerce will instruct U.S. Customs and Border Protection (CBP) to continue to suspend liquidation of entries of subject merchandise, as described in Appendix I of this notice, which were entered, or withdrawn from warehouse, for consumption, on or after November 6, 2024, the date of publication of the Preliminary Determination in the Federal Register. These suspension of liquidation instructions will remain in effect until further notice.

Pursuant to section 735(c)(1)(B)(ii) of the Act and 19 CFR 351.210(d), upon the publication of this notice, we will instruct CBP to require a cash deposit for estimated antidumping duties for such entries as follows: (1) the cash deposit rates for the companies listed in the table above are the company-specific estimated weighted-average dumping margins determined in this final determination; (2) if the exporter is not a respondent listed in the table above, but the producer is, then the cash deposit rate is the company-specific estimated weighted-average dumping margin established for that producer of the subject merchandise; and (3) the cash deposit rate for all other producers and exporters is the all-others estimated weighted-average dumping margin listed in the table above. These suspension of liquidation instructions will remain in effect until further notice.

U.S. International Trade Commission (ITC) Notification

In accordance with section 735(d) of the Act, Commerce will notify the ITC of its final affirmative determination of sales at LTFV. Because Commerce's final determination is affirmative, in accordance with section 735(b)(2) of the Act, the ITC will make its final determination as to whether the domestic industry in the United States is materially injured, or threatened with material injury, by reason of imports or sales (or the likelihood of sales) for importation of ferrosilicon from Kazakhstan, no later than 45 days after this final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed in the “Continuation of Suspension of Liquidation” section above.

Administrative Protective Order (APO)

This notice will serve as a final reminder to parties subject to an APO of their responsibility concerning the disposition of proprietary information disclosed under APO in accordance with accordance with 19 CFR 351.305(a)(3). Timely written notification of the return or destruction of APO materials or conversion to judicial protective order is hereby requested. Failure to comply with the regulations and the terms of an APO is a sanctionable violation.

Notification to Interested Parties

This determination is issued and published in accordance with sections 735(d) and 777(i) of the Act, and 19 CFR 351.210(c).

Dated: March 21, 2025.
Christopher Abbott,
Deputy Assistant Secretary for Policy and Negotiations, performing the non-exclusive functions and duties of the Assistant Secretary for Enforcement and Compliance.

Appendix I—Scope of the Investigation

The scope of this investigation covers all forms and sizes of ferrosilicon, regardless of grade, including ferrosilicon briquettes. Ferrosilicon is a ferroalloy containing by weight four percent or more iron, more than eight percent but not more than 96 percent silicon, three percent or less phosphorus, 30 percent or less manganese, less than three percent magnesium, and 10 percent or less of any other element. The merchandise covered also includes product described as slag, if the product meets these specifications.

Subject merchandise includes material matching the above description that has been finished, packaged, or otherwise processed in a third country, including by performing any grinding or any other finishing, packaging, or processing that would not otherwise remove the merchandise from the scope of the investigation if performed in the country of manufacture of the ferrosilicon.

Ferrosilicon is currently classifiable under subheadings 7202.21.1000, 7202.21.5000, 7202.21.7500, 7202.21.9000, 7202.29.0010, and 7202.29.0050 of the Harmonized Tariff Schedule of the United States (HTSUS). While the HTSUS numbers are provided for convenience and customs purposes, the written description of the scope remains dispositive.

Appendix II—List of Topics Discussed in the Issues and Decision Memorandum

I. Summary

II. Background

III. Final Negative Determination of Critical Circumstances

IV. Discussion of the Issues

Comment 1: Date of Sale

Comment 2: Whether Kazchrome's Home Market is Viable

Comment 3: Whether Kazchrome's Purported Home Market Sales to An Affiliate Should Be Excluded from The Home Market Sales Database

Comment 4: Whether Commerce Should Deduct an Amount from Kazchrome's U.S. Sales To Account for a Specific Adjustment

Comment 5: Whether to Apply our Verification Findings Concerning Methodological and Clerical Errors in Kazchrome's Reported Costs

Comment 6: Whether to Include Foreign Exchange Gain or Loss in Financial Expenses for Kazchrome

Comment 7: Whether to Apply Partial Adverse Facts Available (AFA) with Respect to Kazchrome's Failure to Provide Affiliated Party Information on a Timely Basis

Comment 8: Whether to Apply the Major Input Rule to Kazchrome's Electricity Costs

Comment 9: Whether the YDD Single Entity's Control Number Reporting Methodology is Deficient

Comment 10: YDD Single Entity's Sales to Canada

Comment 11: Whether to Continue to Apply Partial AFA to YDD

Comment 12: Whether Commerce Should Deduct YDD Single Entity's Reported Customs Expense from U.S. Gross Unit Price

Comment 13: Whether Commerce Should Continue to Adjust Negative Margins in the YDD Single Entity's Margin Program

Comment 14: Whether to Adjust for the YDD Single Entity's Cost Verification Findings

Comment 15: Whether to Apply the Major Input Rule to the Transactions Between the Collapsed YDD Single Entity Companies

Comment 16: Whether to Apply the Major Input Rule to the YDD Single Entity's Purchases of Electricity from Affiliated Parties

V. Recommendation

[FR Doc. 2025-05303 Filed 3-27-25; 8:45 am]

BILLING CODE 3510-DS-P